DEPARTMENT OF COMMERCE

International Trade Administration

(A-552-801)

Certain Frozen Fish Fillets from Vietnam: Extension of Time Limit for Final Results of Changed Circumstances Review

AGENCY: Import Administration.

EFFECTIVE DATE: May 15, 2008.

FOR FURTHER INFORMATION CONTACT: Javier Barrientos, AD/CVD Operations, Office 9, Import Administration, International Trade Administration, U.S. Department of Commerce, 14th Street and Constitution Avenue NW, Washington, DC 20230; telephone: (202) 482-2243.

SUPPLEMENTARY INFORMATION: On August 10, 2007, the Department of Commerce (the Department) issued its preliminary results for the changed circumstances review of the antidumping duty order of certain frozen fish fillets from Vietnam. See Certain Frozen Fish Fillets from Vietnam: Notice of Initiation and Preliminary Results of Changed Circumstances Review, 72 FR 46604 (August 21, 2007) (Preliminary Results). The current deadline for the final results of this review is May 6, 2008.

Extension of Time Limits for Final Results

In our Preliminary Results, we indicated we would issue the final results in the instant review within 270 days after the date on which the changed circumstances review is initiated. However, it is not practicable to complete the review within this time period. Accordingly, pursuant to 19 CFR 351.302(b), we are extending the time limit by 60 days.

The Department finds that it is not practicable to complete this review within the original time frame. Subsequent to the Preliminary Results, and receipt of Vinh Hoan Co., Ltd./Corp.'s and Petitioners' (the Catfish Farmers of America and individual U.S. catfish processors) case briefs, the Department requested and received new information from Vinh Hoan on which the Department intends to provide interested parties an opportunity to comment. Consequently, in accordance with 19 CFR 351.302(b), the Department is extending the time period for issuing the final results in the instant review by 60 days. Therefore, the final results will be due no later than July 5, 2008. As July 5, 2008, falls on a Saturday, our final results will be issued no later than Monday July 7, 2008.

This notice is published in accordance with section 771(i) of the Tariff Act of 1930, as amended.

Dated: May 6, 2008.
Stephen J. Claeys,
Deputy Assistant Secretary for Import Administration.

[FR Doc. E8-10902 Filed 5-14-08; 8:45 am]

BILLING CODE 3510-DS-S